DEPARTMENT OF THE INTERIOR

[NPS-NER-BOHA-12921: PPMPSPD1Z.YM0000: PPNEBOHAS1]

Boston Harbor Islands Advisory Council Meeting

AGENCY: National Park Service, Interior.

ACTION: Notice of Meeting.

SUMMARY: This notice announces a meeting of the Boston Harbor Islands Advisory Council. The agenda includes a presentation by author John Galluzzo, “Peddocks Island, As Seen from Pemberton Point” and a park update.

DATES: Date/Time: June 5, 2013, 4:00 p.m. to 6:00 p.m. (EASTERN).

Location: Boston Society of Architects, 290 Congress St., Channel Room, Boston, MA 02110.

FOR FURTHER INFORMATION CONTACT: Bruce Jacobson, DFO, Boston Harbor Islands National Recreation Area, 15 State Street, Suite 1100, Boston, MA 02109; telephone (617) 223-8669; email Bruce_Jacobson@nps.gov.

SUPPLEMENTARY INFORMATION: This meeting open to the public. Those wishing to submit written comments may contact the Designated Federal Official (DFO) for the Boston Harbor Islands Advisory Council, Bruce Jacobson, by mail at State Street, Suite 1100, Boston, MA 02109. Before including your address, phone number, email address, or other personal identifying information in your comment, you should be aware that your entire comment—including your personal identifying information—may be made publicly available at any time. While you can ask us in your comment to withhold your personal identifying information from public review, we cannot guarantee that we will be able to do so.

The Advisory Council was appointed by the Director of the National Park Service pursuant to Public Law 104-333. The purpose of the Council is to advise and make recommendations to the Boston Harbor Islands Partnership with respect to the implementation of a management plan and park operations. Efforts have been made locally to ensure that the interested public is aware of the meeting dates.

Bruce Jacobson,
DFO, Boston Harbor Islands NRA, Northeast Region.

[FR Doc. 2013-11568 Filed 5-14-13; 8:45 am]

BILLING CODE 4310-WV-P